DEPARTMENT OF HEALTH AND HUMAN SERVICES

Centers for Disease Control and Prevention

[Docket No. CDC-2012-0011]

Interagency Task Force on Antimicrobial Resistance (ITFAR): An Update of A Public Health Action Plan to Combat Antimicrobial Resistance

AGENCY: Centers for Disease Control and Prevention (CDC), Department of Health and Human Services (HHS).

ACTION: Notice of public meeting and request for comments.

SUMMARY: The Centers for Disease Control and Prevention (CDC), Food and Drug Administration (FDA), and National Institutes of Health (NIH), all located within the Department of Health and Human Services, announce a public meeting and opening of a docket concerning antimicrobial resistance. The purpose of the meeting is twofold. First, the meeting will provide an opportunity for public comment on progress made by Federal agencies in accomplishing activities outlined in “A Public Health Action Plan to Combat Antimicrobial Resistance (Action Plan)”. Secondly, the meeting will solicit input from the public regarding the Interagency Task Force on Antimicrobial Resistance (ITFAR) activities including the Annual Progress Report and the Action Plan. The meeting will take place at the Hubert H. Humphrey Building in Washington, DC, on Thursday, November 15, 2012, from 1:00 p.m. to 3:30 p.m. After welcome and introductory remarks, the meeting will be open for comments from the public. The agenda is subject to change without notice. Persons wishing to participate, including those who wish to make an oral presentation, must register in advance and provide a copy of their presentations by 12:00 p.m. EDT, Thursday, October 25, 2012.

DATES: The public meeting will be held on Thursday, November 15, 2012 in Washington, DC. The meeting will begin at 1 p.m. and end no later than 3:30 p.m. Written public comment will be accepted through 5 p.m. EST, November 5, 2012.

Deadline for Registration for all Attendees: All attendees must register by 12:00 p.m. EDT, Thursday, October 25, 2012.

Deadline for Requests for Special Accommodation: Special accommodation requests must be submitted by 12 p.m. EDT, Thursday, October 25, 2012.

ADDRESSES: The public meeting will be held at the Department of Health and Human Services, Hubert H. Humphrey Building, Room 800, 200 Independence Avenue, SW., Washington, DC 20201. http://www.hhs.gov/about/hhhmap.html. Telephone: 1-877-696-6775.

Participants should be aware that the meeting location is a Federal government building; therefore, Federal security measures are applicable. Please see Building and Security Guidelines for additional information on security requirements.

You may submit comments, identified by Docket No. CDC-2012-0011 by any of the following methods:

• Federal eRulemaking Portal: http://www.regulations.gov. Follow the instructions for submitting comments.

• Mail: Marsha Jones, Office of Antimicrobial Resistance, Centers for Disease Control and Prevention, 1600 Clifton Road, NE., Mailstop C-12, Atlanta, GA 30333.

Instructions: All submissions received must include the agency name and docket number. All relevant comments received will be posted without change to http://regulations.gov, including any personal information provided. For access to the docket to read background documents or comments received, go to http://www.regulations.gov.

FOR FURTHER INFORMATION CONTACT: Marsha A. Jones, Office of Antimicrobial Resistance, Centers for Disease Control and Prevention, 1600 Clifton Road, NE., Mailstop C-12, Atlanta, GA 30333; telephone 404-639-4111; Email MJones@cdc.gov.

Registration and Special Accommodations: Persons wishing to participate or who need special accommodations or both must register at ARplancomments@cdc.gov or by contacting Marsha Jones at MJones@cdc.gov. See Registration to Attend or Participate in the Public Meeting for instructions on how to submit electronic notices of participation.

SUPPLEMENTARY INFORMATION:

1. Background

The Interagency Task Force on Antimicrobial Resistance (ITFAR) was created in 1999 in recognition of the increasing importance of antimicrobial resistance (AR) as a public health threat. The ITFAR coordinates the activities of federal agencies in addressing antimicrobial resistance (AR) and is co-chaired by HHS/CDC, HHS/FDA, and HHS/NIH. Other HHS Task Force members include the Agency for Healthcare Research and Quality (AHRQ), the Centers for Medicare and Medicaid Services (CMS), the Health Resources and Services Administration (HRSA), and the HHS Office of the Assistant Secretary of Health (HHS/OASH). Non-HHS Task Force members include the Department of Agriculture (USDA), the Department of Defense (DoD), the Department of Veterans Affairs (VA), and the Environmental Protection Agency (EPA).

In 2001, the ITFAR developed an initial Action Plan to combat AR. This Plan, titled “A Public Health Action Plan to Combat Antimicrobial Resistance”, outlined specific goals, actions, and implementation steps important for addressing the problem of antimicrobial resistance. Action items were organized into four focus areas: Surveillance, Prevention and Control, Research, and Product Development. The Action Plan and Annual Report are available at www.regulations.gov docket number CDC-2012-0011. In 2012, a revised version of the Action Plan addressing the evolving threat of antimicrobial resistance was published. These background documents are also included in the docket.

2. Public Comment and Meeting

The public meeting process provides an opportunity for the public to comment on the activities of the ITFAR to date. In addition, the ITFAR invites written comments or oral presentations by interested persons on the Annual Report as well as the four focus areas of the Action Plan: Surveillance, Prevention and Control, Research, and Product Development. Written comments should be submitted following the instructions provided in ADDRESSES.

Comments and suggestions from the public on the Annual Report or any of the focus areas of the Action Plan will be reviewed and carefully considered by the ITFAR. The public should be aware that this meeting agenda does not include development of consensus positions, guidelines, interrogatories, or discussions or endorsement of specific commercial products.

3. Registration To Attend or Participate in the Public Meeting

Participants are asked to preregister to ensure sufficient space. Seating capacity is limited to 200 persons. Those wishing to make an oral presentation during the open public comment period of the hearing should state your intention to present on your registration submission. To register, please send an electronic mail message to ARplancomments@cdc.gov by 12 p.m. EDT, Thursday, October 25, 2012. Your email should include your name, email address, and a written statement identifying each focus area you wish to address and the approximate time requested to make your presentation. Organizations should provide this information as well as the names and email addresses of all participants. Because of time restrictions, the number of presenters will be limited to the first 12 to 15 registrants submitting requests to make presentations. The final number of presenters will be determined by the approximate time requested by each presenter. If the number and time requested for presentations exceed the time allotted for public comment, the length of presentations may be limited; registered presenters will be notified of the approximate time scheduled for their presentation prior to the meeting. All other comments may be submitted in writing following the instructions listed in ADDRESSES.

4. Building and Security Guidelines

The Hubert H. Humphrey Building is the headquarters of the U.S. Department of Health and Human Services and is located at the foot of Capitol Hill at 200 Independence Avenue SW., Washington, DC 20201. The Humphrey Building is served by Metrorail and Metrobus. The closest Metrorail station is the Federal Center SW station, which is served by the Blue and Orange lines.

The meeting is being held in a Federal government building; therefore, Federal security measures are applicable. In planning your arrival, please take account of the need to clear security. All visitors must enter through the HHS Hubert H. Humphrey Building main entrance and present government-issued photo identification (e.g., a valid Federal identification badge, state driver's license, state non-driver's license, or passport).

All persons entering the building must pass through a metal detector. Visitors are issued a visitor's ID wristband in the main lobby and are escorted in groups of five to the meeting room. All items brought to HHS are subject to inspection.

Dated: September 13, 2012.
Tanja Popovic,
Deputy Associate Director for Science, Centers for Disease Control and Prevention.

[FR Doc. 2012-23041 Filed 9-18-12; 8:45 am]

BILLING CODE 4163-18-P